DEPARTMENT OF HEALTH AND HUMAN SERVICES

Administration for Children and Families

Submission for Office of Management and Budget Review; Federal Tax Refund Offset, Administrative Offset, and Passport Denial

AGENCY: Office of Child Support Enforcement, Administration for Children and Families, U.S. Department of Health and Human Services.

ACTION: Request for public comments.

SUMMARY: The Office of Child Support Enforcement (OCSE), Administration for Children and Families (ACF), is requesting the Office of Management and Budget (OMB) to approve the Federal Tax Refund Offset, Administrative Offset, and Passport Denial for an additional three years, with minor updates incorporated. The current OMB approval expires on June 30, 2025.

DATES: Comments due June 26, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The Federal Tax Refund Offset and Administrative Offset programs collect past-due child and spousal support by intercepting certain federal payments, including federal tax refunds, of parents who have been ordered to pay support and are delinquent. The Federal Offset Program is a cooperative effort among the Department of the Treasury's Bureau of the Fiscal Service, OCSE, and state child support agencies (CSAs). The Passport Denial Program reports noncustodial parents who owe child and spousal support above a specified threshold to the U.S. Department of State, which will then deny passports to these individuals. State CSAs routinely submit the names, Social Security numbers, and the amount(s) of past-due child and spousal support of noncustodial parents who are delinquent in making payments to OCSE. The processing screens underwent minor formatting enhancements and OCSE removed the option to select gender.

Respondents: Child Support Agencies.

Annual Burden Estimates
Information collection instrument | Number of respondents | Annual number of responses per respondent | Average annual burden hours per response | Annual burden hours
Input Record Specifications | 54 | 52 | .3 | 842.4
Output Record Specifications | 54 | 52 | .46 | 1,291.68
Payment File (Charts 4-5) | 54 | 52 | .14 | 393.12
Annual Certification Letter | 54 | 1 | .4 | 21.6
Child Support Portal Processing Screens | 173 | 281 | .01 | 486.13

Estimated Total Annual Burden Hours: 3,034.93.

Authority: 42 U.S.C. 652(b); 42 U.S.C. 664; 26 U.S.C. 6402(c); 31 CFR 285.3; 45 CFR 302.60; 45 CFR 303.72; 31 U.S.C. 3701 et seq.; 31 U.S.C. 3716(h); 31 CFR 285.1; 42 U.S.C. 652(k); 42 U.S.C. 654(31); 22 CFR 51.60; 42 U.S.C. 654(31); 42 U.S.C. 664; 31 CFR 285.1; and 31 CFR 285.3.

Mary C. Jones,
ACF/OPRE Certifying Officer.

[FR Doc. 2025-09378 Filed 5-23-25; 8:45 am]

BILLING CODE 4184-41-P